DEPARTMENT OF COMMERCE

National Oceanic and Atmospheric Administration

RIN 0648-XV079

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Executive Finance Committee via webinar.

DATES: The meeting will be held October 15, 2019, from 9 a.m. until 12 p.m.

ADDRESSES: The meeting will be held via webinar. The meeting is open to the public. Registration for the webinar is required. Additional information, including the meeting agenda, overview, briefing book materials, public comment form, and a link for webinar registration will be posted on the Council's website at: https://safmc.net/safmc-meetings/council-meetings/ as it becomes available.

FOR FURTHER INFORMATION CONTACT: Gregg Waugh, Executive Director, SAFMC; phone: (843) 302-8433 or toll free (866) SAFMC-10; fax: (843) 769-4520; email: Gregg.Waugh@safmc.net.

SUPPLEMENTARY INFORMATION: The Council's Executive Finance Committee will meet via webinar to receive an update on the 2019 budget and review the new 5-year Grant (Calendar Year 2020-24), 2020 Activities Schedules, and the draft Calendar Year 2020 Operational Budget. The committee will also receive an overview of the No-Cost Budget Extension. Committee members will take action as needed and provide guidance to staff.

Special Accommodations

This meeting is physically accessible to people with disabilities. Requests for auxiliary aids should be directed to the Council office (see ADDRESSES) at least 5 business days prior to the webinar.

Authority: 16 U.S.C. 1801 et seq.

Dated: September 17, 2019.
Rey Israel Marquez,
Acting Deputy Director, Office of Sustainable Fisheries, National Marine Fisheries Service.

[FR Doc. 2019-20406 Filed 9-19-19; 8:45 am]

BILLING CODE 3510-22-P